DEPARTMENT OF HEALTH AND HUMAN SERVICES

Centers for Disease Control and Prevention

[Program Announcement 04192]

Enhancement of HIV/AIDS Prevention, Care and Treatment Services in Zanzibar in the United Republic of Tanzania; Notice of Intent To Fund Single Eligibility Award

A. Purpose

The Centers for Disease Control and Prevention (CDC) announces the intent to fund fiscal year (FY) 2004 funds for a cooperative agreement program to support the public health infrastructure in Zanzibar to increase their capacity to prevent HIV transmission from mother-to-child and to improve access to comprehensive HIV/AIDS care and support programs in the public sector. The Catalog of Federal Domestic Assistance number for this program is 93.941.

B. Eligible Applicant

Assistance will be provided only to Zanzibar AIDS Control Program (ZACP). The ZACP is currently the only appropriate and qualified organization to conduct a specific set of activities supportive of the CDC/GAP goals for enhancing HIV/AIDS prevention, care and treatment services in Zanzibar because:

The ZACP is uniquely positioned, in terms of legal authority and support from the Government of the United Republic of Tanzania, and has the ability and credibility among Tanzanian citizens residing on the island of Zanzibar to coordinate the implementation of initiatives for HIV/AIDS prevention, care and treatment services in Zanzibar.

The ZACP has developed ANC, HIV (sentinel and population based) surveillance, HIV laboratory guidelines and strategic plans for enhancing ANC and other care and treatment services in Zanzibar, which allows the ZACP to immediately become engaged in the activities listed in this announcement. The purpose of the announcement is to build upon the existing framework of health policy and programming that the ZACP has itself initiated.

The ZACP has been mandated by the United Republic of Tanzania government to coordinate and implement activities necessary for the control of epidemics, including HIV/AIDS and STDs.

The ZACP also has the ability to technically oversee the project, ensuring the activities implemented are integrated into the national strategy for combating HIV/AIDS in Zanzibar.

C. Funding

Approximately $1,500,000 is available in FY 2004 to fund this award. It is expected that the award will begin on or before September 1, 2004, and will be made for a 12-month budget period within a project period of up to 5 years. Funding estimates may change.

D. Where To Obtain Additional Information

For general comments or questions about this announcement, contact: Technical Information Management, CDC Procurement and Grants Office, 2920 Brandywine Road, Atlanta, GA 30341-4146, Telephone: 770-488-2700.

For program technical assistance, contact: Cecil Threat, Project Officer, Global AIDS Program, c/o American Embassy, 2140 Dar es Salaam Place, Washington, DC 20521-2140, Telephone: 255-22-212-1407, Fax: 255-22-212-1462, E-mail: Cthreat@cdc.gov.

For budget assistance, contact: Diane Flournoy, Contract Specialist, CDC Procurement and Grants Office, 2920 Brandywine Road, Atlanta, GA 30341, Telephone: 770-488-2072, E-mail: dmf6@cdc.gov.

Dated: June 16, 2004.
William P. Nichols,
Acting Director, Procurement and Grants Office, Centers for Disease Control and Prevention.

[FR Doc. 04-14177 Filed 6-22-04; 8:45 am]

BILLING CODE 4163-18-P